DEPARTMENT OF AGRICULTURE

Forest Service

Determining Fees for Recreation Residences Permits During the Transition Period of the Cabin User Fee Fairness Act of 2000

AGENCY: Forest Service, USDA.

ACTION: Notice of issuance of interim directive.

SUMMARY: The Forest Service is issuing an interim directive to provide direction to Forest Service employees for assessing fees for recreation residence special use permits pursuant to the Cabin User Fee Fairness Act of 2000. The direction in this interim directive applies during the transition period as provided by section 614 of the act until the agency adopts final rules, directives, and appraisal guidelines. This interim directive is issued as ID 2709.11-2003-1 to Forest Service Handbook 2709.11, chapter 30.

DATES: This interim directive is effective February 20, 2003.

ADDRESSES: This interim directive (ID 2709.11-2003-1) is available electronically from the Forest Service via the World Wide Web/Internet at http://www.fs.fed.us/im/directives. Single paper copies of the interim directive also are available by contacting Randy Karstaedt, Forest Service, USDA, Lands Staff (Mail Stop 1124), 1400 Independence Avenue, SW., Washington, DC 20250-1124 (telephone 202-205-1256).

FOR FURTHER INFORMATION CONTACT: Randy Karstaedt, Lands Staff (202-205-1256), Forest Service, USDA.

SUPPLEMENTARY INFORMATION: The Forest Service is currently developing proposed regulations, directives, and appraisal guidelines in response to the requirements of the Cabin User Fee Fairness Act of 2000 (CUFFA). The agency will publish notice of these documents in the Federal Register at a later date for public comment. Until final regulations, directives, and appraisal guidelines are adopted, the Forest Service will determine recreation residence fees and manage recreation residence permits during the transition period consistent with (1) the provisions in section 614 of CUFFA, (2) current agency directives applicable to the administration of permits and assessment of fees for recreation residences, and (3) the direction contained in interim directive (ID) 2709.11-2003-1 issued to Forest Service Handbook (FSH) 2709.11, chapter 30.

Dated: February 12, 2003.
Dale N. Bosworth,
Chief.

[FR Doc. 03-4098 Filed 2-19-03; 8:45 am]

BILLING CODE 3410-11-P